DEPARTMENT OF COMMERCE

Foreign-Trade Zones Board

[Docket 6-2011]

Foreign-Trade Zone 153—San Diego, CA; Application for Manufacturing Authority; Abbott Cardiovascular Systems, Inc. (Cardiovascular Device Manufacturing); Riverside County, CA

An application has been submitted to the Foreign-Trade Zones Board (the Board) by the City of San Diego, grantee of FTZ 153, requesting manufacturing authority on behalf of Abbott Cardiovascular Systems, Inc. (Abbott), located in Riverside County, California. The application was submitted pursuant to the provisions of the Foreign-Trade Zones Act, as amended (19 U.S.C. 81a-81u), and the regulations of the Board (15 CFR part 400). It was formally filed on January 18, 2011.

The Abbott facilities (3,500 employees, up to 9 million units per year) are located within three sites of FTZ 153: Site 11 (54.2 acres) is located at 26531 Ynez Road, Temecula; Site 12 (8.3 acres) is located at 42301 Zevo Drive, Temecula; and, Site 13 (4.4 acres) is located at 30590 Cochise Circle, Murrieta. The facilities are used for the production of cardiovascular devices including stents, catheters and guidewires. Components and materials sourced from abroad (representing 5% of the value of the finished product) include: resins, plastic tubing, stent components, plastic packaging, plastic clips, nickel tubing and tantalum tubing (duty rate ranges from 2 to 6.5%). The application also requests authority to include a broad range of inputs and finished cardiovascular devices that Abbott may produce under FTZ procedures in the future. New major activity involving these inputs/products would require review by the FTZ Board.

FTZ procedures could exempt Abbott from customs duty payments on the foreign components used in export production. The company anticipates that some 50 percent of the plants' shipments will be exported. On its domestic sales, Abbott would be able to choose the duty rate during customs entry procedures that applies to the finished cardiovascular devices (duty free) for the foreign inputs noted above. FTZ designation would further allow Abbott to realize logistical benefits through the use of weekly customs entry procedures. Customs duties also could possibly be deferred or reduced on foreign status production equipment. The request indicates that the savings from FTZ procedures would help improve the facilities' international competitiveness.

In accordance with the Board's regulations, Diane Finver of the FTZ Staff is designated examiner to evaluate and analyze the facts and information presented in the application and case record and to report findings and recommendations to the Board.

Public comment is invited from interested parties. Submissions (original and 3 copies) shall be addressed to the Board's Executive Secretary at the address below. The closing period for their receipt is March 28, 2011. Rebuttal comments in response to material submitted during the foregoing period may be submitted during the subsequent 15-day period to April 11, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Diane Finver at Diane.Finver@trade.gov or (202) 482-1367.

Dated: January 18, 2011.
Andrew McGilvray,
Executive Secretary.

[FR Doc. 2011-1506 Filed 1-24-11; 8:45 am]

BILLING CODE P